DEPARTMENT OF COMMERCE

International Trade Administration

[A-489-826]

Certain Hot-Rolled Steel Flat Products From the Republic of Turkey: Final Results of Antidumping Duty Administrative Review and Final Determination of No Shipments; 2018-2019

AGENCY: Enforcement and Compliance, International Trade Administration, Department of Commerce.

SUMMARY: The Department of Commerce (Commerce) determines that certain hot-rolled steel flat products from the Republic of Turkey (Turkey) were sold at less than normal value during the period of review (POR), October 1, 2018, through September 30, 2019. In addition, Commerce determines that six exporters had no shipments during the POR.

DATES: Applicable August 23, 2021.

FOR FURTHER INFORMATION CONTACT: Lingjun Wang, AD/CVD Operations, Office VII, Enforcement and Compliance, International Trade Administration, U.S. Department of Commerce, 1401 Constitution Avenue NW, Washington, DC 20230; telephone: (202) 482-2316.

SUPPLEMENTARY INFORMATION:

Background

On February 24, 2021, Commerce published the Preliminary Results of this review.¹ We invited interested parties to comment on the Preliminary Results. On March 26, 2021, AK Steel Corporation (a petitioner in the underlying less-than-fair-value investigation ²) and Cleveland-Cliffs Steel LLC (collectively, the domestic producers) filed a case brief.³ The domestic producers also filed a rebuttal brief on April 2, 2021.⁴ The sole mandatory respondent, Habas Sinai ve Tibbi Gazlar Istihsal Endustrisi A.S. (Habas), filed a case brief on March 26, 2021.⁵

¹ See Certain Hot-Rolled Steel Flat Products from the Republic of Turkey: Preliminary Results of Antidumping Duty Administrative Review and Preliminary Determination of No Shipments; 2018-2019, 86 FR 11227 (February 24, 2021) (Preliminary Results), and accompanying Preliminary Decision Memorandum (PDM).

² See Preliminary Results PDM at 2.

³ See Domestic Producers' Letter, “Hot-Rolled Steel Flat Products from Turkey: Petitioners' Case Brief,” dated March 26, 2021.

⁴ See Domestic Producers' Letter, “Hot-Rolled Steel Flat Products from Turkey: Petitioners' Rebuttal Brief,” dated April 2, 2021.

⁵ See Habas' Letter, “Hot-Rolled Steel Flat Products from Turkey; Habaş Case Brief,” dated March 26, 2021 (Habas Case Brief).

On June 17, 2021, and July 21, 2021, in accordance with section 751(a)(3)(A) of the Tariff Act of 1930, as amended (the Act), Commerce extended the time period for issuing these final results until August 20, 2021.⁶

⁶ See Memorandum, “Hot-Rolled Steel Flat Products from the Republic of Turkey: Antidumping Duty Administrative Review; 2018-2019, Extension of Deadline for Final Results,” dated June 17, 2021; see also Memorandum, “Hot-Rolled Steel Flat Products from the Republic of Turkey: Antidumping Duty Administrative Review; 2018-2019, Extension of Deadline for Final Results,” dated July 21, 2021.

We initiated this review on thirteen companies,⁷ including Colakoglu Metalurji, A.S. and Colakoglu Dis Ticaret A.S. (collectively, Colakoglu), which we had collapsed as a single entity in the underlying less-than-fair-value investigation.⁸ Based on the final judgment of the U.S. Court of International Trade (CIT) in litigation associated with the underlying investigation, subject merchandise produced and exported by Colakoglu was excluded from the Order.⁹ Consequently, Commerce discontinued this review with respect to the subject merchandise produced and exported by Colakoglu, but not subject merchandise (1) produced by Colakoglu and exported by another company; or (2) produced by another company and exported by Colakoglu.¹⁰ Accordingly, these final results cover thirteen companies including Habas, six non-examined companies, including Colakoglu, and six no-shipments companies.

⁷ See Initiation of Antidumping and Countervailing Duty Administrative Reviews, 84 FR 67712 (December 11, 2019).

⁸ See Certain Hot-Rolled Steel Flat Products from the Republic of Turkey: Final Determination of Sales at Less Than Fair Value, 81 FR 53428 (August 12, 2016).

⁹ See Certain Hot-Rolled Steel Flat Products from Turkey: Notice of Court Decision Not in Harmony with the Amended Final Determination in the Less-Than-Fair-Value Investigation; Notice of Amended Final Determination, Amended Antidumping Duty Order, Notice of Revocation of Antidumping Duty Order in Part; and Discontinuation of the 2017-18 and 2018-19 Antidumping Duty Administrative Reviews, in Part, 85 FR 29399 (May 15, 2020) (Timken Notice); see also Certain Hot-Rolled Steel Flat Products from Australia, Brazil, Japan, the Republic of Korea, the Netherlands, the Republic of Turkey, and the United Kingdom: Amended Final Affirmative Antidumping Determinations for Australia, the Republic of Korea, and the Republic of Turkey and Antidumping Duty Orders, 81 FR 67962 (October 3, 2016) (Order).

¹⁰ See Preliminary Results, 86 FR at 11228 (citing Timken Notice, 85 FR at 29400).

Scope of the Order

The merchandise covered by the Order is certain hot-rolled steel flat products. For a complete description of the scope of this Order, see the Issues and Decision Memorandum.¹¹

¹¹ See Memorandum, “Issues and Decision Memorandum for the Final Results of Antidumping Duty Administrative Review of Certain Hot-Rolled Steel Flat Products from Republic of Turkey; 2018-2019,” dated concurrently with, and hereby adopted by, this notice (Issues and Decision Memorandum).

Final Determination of No Shipments

In the Preliminary Results, Commerce determined that six exporters had no shipments of the subject merchandise during the POR: (1) Agir Haddecilik A.S. (Agir); (2) Eregli Demir ve Celik Fabrikalari T.A.S. and (3) Iskenderun Iron & Steel Works Ltd. (a/k/a/Iskenderun Demir ve Celik A.S.) (collectively, Erdemir Group); (4) Gazi Metal Mamulleri Sanayi ve Ticaret A.S.(Gazi); (5) Seametal Sanayi ve Dis Ticaret Limited Sirketi (Seametal) ¹²; and (6) Tosyali Holding (Toscelik Profile and Sheet Ind. Co., Toscelik Profil ve Sac A.S.).

¹² In Commerce's Initiation Notice, this company was referred to as Seametal San ve Dis Tic. The two names refer to the same company.

We received no comments that were contrary to our preliminary findings with respect to those companies. Therefore, we continue to find that those exporters made no shipments of subject merchandise during the POR. Accordingly, consistent with our practice, we intend to instruct U.S. Customs and Border Protection (CBP) to liquidate any existing entries of subject merchandise associated with these companies consistent with Commerce's reseller policy.¹³

¹³ See Antidumping and Countervailing Duty Proceedings: Assessment of Antidumping Duties, 68 FR 23954 (May 6, 2003).

Analysis of the Comments Received

We addressed all issues raised in the case and rebuttal briefs in the Issues and Decision Memorandum, which is hereby adopted with this notice. A list of these issues is attached in an appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at http://enforcement.trade.gov/frn/index.html.

Changes Since the Preliminary Results

Based on our analysis of the comments received, we made two changes to the Preliminary Results. For a full discussion of these changes, see the Issues and Decision Memorandum.

Rate for Non-Examined Companies

The statute and Commerce's regulations do not address the establishment of a rate to be applied to companies not selected for examination when Commerce limits its examination in an administrative review pursuant to section 777A(c)(2) of the Act. Generally, Commerce looks to section 735(c)(5) of the Act, which provides instructions for calculating the all-others rate in an investigation, for guidance when calculating the rate for companies which were not selected for individual examination in an administrative review. Under section 735(c)(5)(A) of the Act, the all-others rate is normally “an amount equal to the weighted average of the estimated weighted average dumping margins established for exporters and producers individually investigated, excluding any zero or de minimis margins, and any margins determined entirely {on the basis of facts available}.”

For these final results, we calculated a weighted-average dumping margin that is not zero, de minimis, or determined entirely on the basis of facts available for Habas, our sole mandatory respondent. Accordingly, we have determined the weighted-average dumping margin for the non-individually examined companies to be equal to the weighted-average dumping margin calculated for Habas.

Final Results of the Review

Commerce determines that the following weighted-average dumping margins exist for the period October 1, 2018, through September 30, 2019:

Producer or exporter | Weighted-average dumping margin (percent)
Habas Sinai ve Tibbi Gazlar Istihsal Endustrisi A.S | 24.32
Review-Specific Average Rate Applicable to the Following Companies:
Cag Celik Demir ve Celik | 24.32
Colakoglu Metalurji, A.S./Colakoglu Dis Ticaret A.S.¹⁴ | 24.32
Habas Industrial and Medical Gases Production Industries Inc | 24.32
MMK Atakas Metalurji | 24.32
Ozkan Iron and Steel Ind | 24.32

Disclosure

¹⁴ This rate applies only for certain hot-rolled flat products produced in Turkey where Colakoglu acted as either the producer or exporter but not both.

We intend to disclose the calculations performed for these final results of review within five days of the publication date of this notice in the Federal Register, in accordance with 19 CFR 351.224(b).

Assessment of Antidumping Duties

Pursuant to section 751(a)(2)(C) of the Act and 19 CFR 351.212(b), Commerce shall determine, and CBP shall assess, antidumping duties on all appropriate entries of subject merchandise in accordance with the final results of this review.

Consistent with its recent notice,¹⁵ Commerce intends to issue assessment instructions to CBP no earlier than 35 days after the date of publication of the final results of this review in the Federal Register. If a timely summons is filed at the CIT, the assessment instructions will direct CBP not to liquidate relevant entries until the time for parties to file a request for a statutory injunction has expired (i.e., within 90 days of publication).

¹⁵ See Notice of Discontinuation Policy to Issue Liquidation Instructions After 15 Days in Applicable Antidumping and Countervailing Duty Administrative Proceedings, 86 FR 3995 (January 15, 2021).

For Habas, Commerce has calculated importer-specific antidumping duty assessment rates. We calculated importer-specific antidumping duty assessment rates by aggregating the total amount of dumping calculated for the examined sales of the importer and dividing these amounts by the total entered value associated with those sales. Where either the respondent's weighted-average dumping margin is zero or de minimis within the meaning of 19 CFR 351.106(c)(1), or an importer-specific assessment rate is zero or de minimis, we will instruct CBP to liquidate the appropriate entries without regard to antidumping duties.

For the non-examined companies, we will instruct CBP to assess antidumping duties at an ad valorem rate equal to each company's weighted-average dumping margin.

For entries of subject merchandise during the POR produced by Habas where it did not know that its merchandise was destined for the United States, and for all entries attributed to the companies which we have found to have had no shipments during the POR, we will instruct CBP to liquidate such unreviewed entries pursuant to the reseller policy,¹⁶ i.e., the assessment rate for such entries will be equal to the all-others rate established in the investigation (i.e., 2.73 percent),¹⁷ if there is no rate for the intermediate company(ies) involved in the transaction.

¹⁶ See Antidumping and Countervailing Duty Proceedings: Assessment of Antidumping Duties, 68 FR 23954 (May 6, 2003).

¹⁷ See Timken Notice, 85 FR at 29400.

Cash Deposit Requirements

The following cash deposit requirements for estimated antidumping duties will be effective for all shipments of the subject merchandise entered, or withdrawn from warehouse, for consumption on or after the publication date of the final results of this administrative review, as provided by section 751(a)(2)(C) of the Act: (1) The cash deposit rate for each specific company listed above will be equal to each company's weighted-average dumping margin established in the final results of this review, (except if the ad valorem rate is de minimis, in which case the cash deposit rate will be zero); (2) for previously investigated companies not participating in this review, the cash deposit will continue to be the company-specific rate published for the most recently completed segment of this proceeding in which the company participated; (3) if the exporter is not a firm covered in this review, or the underlying investigation, but the producer is, then the cash deposit rate will be the company-specific rate established for the completed segment for the most recent POR for the producer of the merchandise; and (4) the cash deposit rate for all other producers or exporters will continue to be 2.73 percent, the all-others rate established in the underlying investigation.

These deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in the presumption that reimbursement of antidumping duties occurred and the subsequent assessment of doubled antidumping duties.

Administrative Protective Order

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing these final results in accordance with sections 751(a)(1) and 777(i)(1) of the Act, and 19 CFR 351.221(b)(5).

Dated: August 17, 2021.
Christian Marsh,
Acting Assistant Secretary for Enforcement and Compliance.

Appendix—List of Topics Discussed in the Issues and Decision Memorandum

I. Summary

II. Background

III. Scope of the Order

IV. Final Determination of No Shipments

V. Rate for Non-Examined Companies

VI. Changes Since the Preliminary Results

VII. Discussion of Issues

Comment 1: Currency for Habas' Home Market Sale Prices

Comment 2: Cost Adjustment for High Inflation

VIII. Recommendation

[FR Doc. 2021-18057 Filed 8-20-21; 8:45 am]

BILLING CODE 3510-DS-P